FEDERAL DEPOSIT INSURANCE CORPORATION

Sunshine Act Meetings; Notice of Meeting Held With Less Than Seven Days Advance Notice

TIME AND DATE: 10:00 a.m. on December 16, 2025.

PLACE: The meeting was held in the FDIC Board Room, 550 17th Street NW, Washington, DC, and was webcast to the public.

STATUS: Open to public observation via webcast.

MATTERS TO BE CONSIDERED: Pursuant to the provisions of the “Government in the Sunshine Act” (5 U.S.C. 552b), notice is given that the Federal Deposit Insurance Corporation's Board of Directors met in open session to consider the following matters:

Discussion Agenda

Proposed 2026 Operating Budget.

Interim Final Rule on Special Assessment Collection.

Notice of Proposed Rulemaking: Approval Requirements for Issuance of Payment Stablecoins by Subsidiaries of FDIC-Supervised Insured Depository Institutions.

Summary Agenda

Final Rule: Establishment and Relocation of Branches and Offices.

Proposed 2026-2030 FDIC Strategic Plan.

CONTACT PERSON FOR MORE INFORMATION: For further information, please contact Debra A. Decker, Executive Secretary, FDIC, at FDICBoardMatters@fdic.gov.

Authority: 5 U.S.C. 552b

Dated at Washington, DC, on December 17, 2025.
Federal Deposit Insurance Corporation.
Debra A. Decker,
Executive Secretary.

[FR Doc. 2025-23448 Filed 12-17-25; 4:15 pm]

BILLING CODE 6714-01-P